INTERNATIONAL TRADE COMMISSION

[Investigation Nos. 701-TA-652 and 731-TA-1524-1525 (Final)]

Silicon Metal From Bosnia and Herzegovina, Iceland, and Kazakhstan; Determinations

On the basis of the record ¹ developed in the subject investigations, the United States International Trade Commission (“Commission”) determines, pursuant to the Tariff Act of 1930 (“the Act”), that an industry in the United States is materially injured by reason of imports of silicon metal, provided for in subheadings 2804.69.10 and 2804.69.50 of the Harmonized Tariff Schedule of the United States, from Bosnia and Herzegovina and from Iceland, that have been found by the U.S. Department of Commerce (“Commerce”) to be sold in the United States at less than fair value (“LTFV”), and from Kazakhstan, that have been found by Commerce to be subsidized by the Government of Kazakhstan.²

¹ The record is defined in § 207.2(f) of the Commission's Rules of Practice and Procedure (19 CFR 207.2(f)).

² The Commission also finds that imports subject to Commerce's affirmative critical circumstances determination are not likely to undermine seriously the remedial effect of the antidumping duty order on silicon metal from Iceland.

Background

The Commission instituted these investigations effective June 30, 2020, following receipt of petitions filed with the Commission and Commerce by Globe Specialty Metal, Inc., Beverly, Ohio and Mississippi Silicon, LLC, Burnsville, Mississippi. The final phase of the investigations was scheduled by the Commission following notification of preliminary determinations by Commerce that imports of silicon metal from Kazakhstan were subsidized within the meaning of section 703(b) of the Act (19 U.S.C. 1671b(b)) and that imports of silicon metal from Bosnia and Herzegovina and Iceland were being sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 30, 2020 (85 FR 86578). In light of the restrictions on access to the Commission building due to the COVID-19 pandemic, the Commission conducted its hearing through written testimony and video conference on February 22, 2021. All persons who requested the opportunity were permitted to participate.

The Commission made these determinations pursuant to §§ 705(b) and 735(b) of the Act (19 U.S.C. 1671d(b) and 19 U.S.C. 1673d(b)). It completed and filed its determinations in these investigations on April 12, 2021. The views of the Commission are contained in USITC Publication 5180 (April 2021), entitled Silicon Metal from Bosnia and Herzegovina, Iceland, and Kazakhstan: Investigation Nos. 701-TA-652 and 731-TA-1524-1525 (Final).

By order of the Commission.
Issued: April 12, 2021.
Lisa Barton,
Secretary to the Commission.

[FR Doc. 2021-07796 Filed 4-15-21; 8:45 am]

BILLING CODE 7020-02-P